DEPARTMENT OF COMMERCE

Bureau of the Census

Request for Nominations of Members To Serve on the Census Scientific Advisory Committee

AGENCY: Bureau of the Census, Department of Commerce.

ACTION: Notice of request for nominations.

SUMMARY: The Bureau of the Census (Census Bureau) requests nominations of individuals to the Census Scientific Advisory Committee. The Census Bureau will consider nominations received in response to this notice, as well as from other sources. The SUPPLEMENTARY INFORMATION section of this notice provides Committee and membership criteria.

DATES: Please submit nominations by September 25, 2018. The Census Bureau will retain nominations received after this date for consideration should additional vacancies occur.

ADDRESSES: Please submit nominations to the census.scientific.advisory.committee@census.gov (subject line “2018 CSAC Nominations”) or by letter submission to Tara Dunlop Jackson, Committee Liaison Officer, 2018 CSAC Nominations, Department of Commerce, U.S. Census Bureau, Room 8H177, 4600 Silver Hill Road, Washington, DC 20233.

FOR FURTHER INFORMATION CONTACT: Tara Dunlop Jackson, Branch Chief for Advisory Committees, Customer Liaison and Marketing Services Office, Department of Commerce, U.S. Census Bureau, Room 8H177, 4600 Silver Hill Road, Washington, DC 20233, (301) 763-5222 or census.scientific.advisory.committee@census.gov.

SUPPLEMENTARY INFORMATION: The Census Scientific Advisory Committee was established in accordance with the Federal Advisory Committee Act (FACA), Title 5, United States Code (U.S.C.), Appendix 2. The following provides information about the Committee, membership, and the nomination process.

Objectives and Duties

1. The Census Scientific Advisory Committee advises the Director of the U.S. Census Bureau on the uses of scientific developments in statistical data collection, statistical analysis, survey methodology, geospatial analysis, econometrics, cognitive psychology, and computer science as they pertain to the full range of Census Bureau programs and activities (including: Communications, decennial, demographic, economic, field operations, geographic, information technology, and statistics).

2. The Census Scientific Advisory Committee provides scientific and technical expertise from the following disciplines: Demography, economics, geography, psychology, statistics, survey methodology, social and behavioral sciences, Information Technology and computing, marketing, communications, and other fields of expertise, as appropriate, to address Census Bureau program needs and objectives. This expertise is necessary to ensure that the Census Bureau continues to provide relevant and timely statistics used by tribal, federal, state, and local governments as well as business and industry in an increasingly technologically-oriented society.

3. The Census Scientific Advisory Committee functions solely as an advisory body under the FACA.

4. The Census Scientific Advisory Committee reports to the Director of the Census Bureau.

Membership

1. The Census Scientific Advisory Committee consists of up to 21 members and one Chair appointed by the Director of the Census Bureau. The Census Bureau is currently filling five seats.

2. Members are appointed for a three-year term.

3. Members shall serve as Special Government Employees (SGEs) and will be subject to the ethical standards applicable to SGEs. Committee membership will be reevaluated at the conclusion of the three-year term. Member renewal will be based on active attendance, participation in meetings, administrative compliance, Census Bureau needs, and the Director's concurrence.

4. Committee members are selected in accordance with applicable Department of Commerce guidelines. The Census Scientific Advisory Committee aims to have balanced representation, considering such factors as geography and technical and scientific expertise. The Committee will include members from diverse backgrounds, including academia and private enterprise, which are further diversified by business type or industry, geography, and other factors.

5. No employee of the federal government can serve as a member of the Census Scientific Advisory Committee.

Miscellaneous

1. Members of the Census Scientific Advisory Committee serve without compensation, but receive reimbursement for Committee-related travel and lodging expenses.

2. The Census Scientific Advisory Committee meets once or twice a year, budget permitting. Additional meetings may be held as deemed necessary by the Census Bureau Director or Designated Federal Official. All Committee meetings are open to the public in accordance with the FACA.

Nomination Information

1. Nominations are requested as described above.

2. Nominees must have scientific and technical expertise in such areas as demography, economics, geography, psychology, statistics, survey methodology, social and behavioral sciences, Information Technology, computing, or marketing. Such knowledge and expertise are needed to provide advice and recommendations to the Director of the Census Bureau on the trends, uses, and application of scientific innovations and developments in relation to the full range of Census Bureau programs and activities.

3. The Census Bureau is especially interested in receiving applications from persons with expertise in demography, statistics, business/finance, sociology, and marketing.

4. Individuals, groups, and/or organizations may submit nominations on behalf of individual candidates. A summary of the candidate's qualifications (resumé or curriculum vitae) must be included along with the nomination letter. Nominees must be able to actively participate in the tasks of the Census Scientific Advisory Committee, including, but not limited to, regular meeting attendance, Committee meeting discussant responsibilities, review of materials, as well as participation in conference calls, webinars, working groups, and/or special Committee activities.

5. The Department of Commerce is committed to equal opportunity in the workplace and seeks diverse Committee membership.

Dated: July 20, 2018.
Ron S. Jarmin,
Associate Director for Economic Programs, Performing the Non-Exclusive Functions and Duties of the Director, Bureau of the Census.

[FR Doc. 2018-16021 Filed 7-26-18; 8:45 am]

BILLING CODE 3510-07-P